DEPARTMENT OF HOMELAND SECURITY

Federal Emergency Management Agency

44 CFR Part 67

[Docket ID FEMA-2010-0003; Internal Agency Docket No. FEMA-B-1108]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 1, 2010.

ADDRESSES: The corresponding preliminary Flood Insurance Rate Map (FIRM) for the proposed BFEs for each community is available for inspection at the community's map repository. The respective addresses are listed in the table below.

You may submit comments, identified by Docket No. FEMA-B-1108, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Leake County, Mississippi, and Incorporated Areas
Pearl River | Approximately 1.0 mile downstream of State Highway 35 | None | +341 | City of Carthage.
| Approximately 1.0 mile upstream of State Highway 35 | None | +343
Tuscolameta Creek | Approximately 555 feet downstream of State Highway 35 | None | +356 | Town of Walnut Grove.
| Approximately 0.5 mile upstream of State Highway 35 | None | +357
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Carthage
Maps are available for inspection at City Hall, 212 West Main Street, Carthage, MS 39051.
Town of Walnut Grove
Maps are available for inspection at the Town Hall, 139 Main Street, Walnut Grove, MS 38189.
Stone County, Mississippi, and Incorporated Areas
Church House Branch | Approximately 0.5 mile downstream of East 5th Avenue | None | +211 | City of Wiggins.
| Approximately 385 feet upstream of East Borders Avenue | None | +245
Flint Creek | Approximately 574 feet downstream of Clubhouse Drive | None | +171 | City of Wiggins, Unincorporated Areas of Stone County.
| Approximately 1,290 feet upstream of State Highway 29 | None | +187
Flint Creek Tributary 2 | At the confluence with Flint Creek | None | +174 | City of Wiggins.
| Approximately 350 feet upstream of Annis Lane | None | +254
Four Mile Creek | Approximately 1 mile downstream of South Azalea Drive | None | +168 | City of Wiggins, Unincorporated Areas of Stone County.
| Approximately 345 feet upstream of West Miles Avenue | None | +261
Four Mile Creek Tributary 1 | At the confluence with Four Mile Creek | None | +214 | City of Wiggins.
| Approximately 1,845 feet upstream of West Bond Avenue | None | +261
Red Creek Tributary | Approximately 0.5 mile downstream of Mill Avenue | None | +166 | City of Wiggins, Unincorporated Areas of Stone County.
| Approximately 1,345 feet upstream of State Highway 29 | None | +220
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Wiggins
Maps are available for inspection at City Hall, 117 North 1st Street, Wiggins, MS 39577.
Unincorporated Areas of Stone County
Maps are available for inspection at the Stone County Courthouse, 323 East Cavers Street, Wiggins, MS 39577.
Franklin County, Missouri, and Incorporated Areas
Birch Creek | Approximately 0.4 mile downstream of Denmark Road | None | +499 | City of Union, Unincorporated Areas of Franklin County.
| Approximately 440 feet downstream of Prairie Dell Road | None | +543
Bourbeuse River Tributary | Approximately 0.6 mile upstream of the confluence with the Bourbeuse River | None | +500 | City of Union, Unincorporated Areas of Franklin County.
| Just downstream of Prairie Dell Road | None | +550
Busch Creek | At the confluence with Dubois Creek | +486 | +491 | City of Washington, Unincorporated Areas of Franklin County.
| Approximately 460 feet upstream of Schroeder Lane | None | +582
Dubois Creek | Approximately 1,688 feet downstream of the confluence with Busch Creek | +486 | +491 | City of Washington, Unincorporated Areas of Franklin County.
| Just downstream of State Highway 100 | +486 | +491
Fiddle Creek | Approximately 165 feet downstream of Labadie Bottom Road | +479 | +483 | Unincorporated Areas of Franklin County.
| Approximately 0.8 mile upstream of County Highway T | +482 | +483
Labadie Creek | At the confluence with the Missouri River | +481 | +485 | Unincorporated Areas of Franklin County.
| Approximately 0.5 mile downstream of County Highway T | +485 | +486
Little Tavern Creek | Approximately 1.0 mile downstream of County Highway T | +478 | +480 | Unincorporated Areas of Franklin County.
| Approximately 0.5 mile downstream of County Highway T | +478 | +480
Missouri River | Approximately 3.3 miles downstream of the confluence with Fiddle Creek | +474 | +476 | City of Berger, City of New Haven, City of Washington, Unincorporated Areas of Franklin County.
| Approximately 0.6 mile downstream of the confluence with Little Berger Creek | +514 | +516
Saint Johns Creek | Approximately 1.2 mile downstream of West Link Drive | +494 | +495 | City of Washington, Unincorporated Areas of Franklin County.
| Approximately 1,475 feet downstream of State Highway 100 | +494 | +495
South Branch Busch Creek | At the confluence with Busch Creek | +486 | +491 | City of Washington, Unincorporated Areas of Franklin County.
| Approximately 0.8 mile upstream of State Highway 100 | None | +500
Southwest Branch Busch Creek | At the confluence with Busch Creek | +486 | +493 | City of Washington, Unincorporated Areas of Franklin County.
| Approximately 0.5 mile upstream of State Highway 47 | +513 | +514
Unnamed Tributary to Busch Creek | At the confluence with Busch Creek | None | +537 | City of Washington, Unincorporated Areas of Franklin County.
| Approximately 1,520 feet upstream of State Highway 100 | None | +552
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Berger
Maps are available for inspection at 405 Rosalie Avenue, Berger, MO 63014.
City of New Haven
Maps are available for inspection at 101 Front Street, New Haven, MO 63068.
City of Union
Maps are available for inspection at 500 East Locust Street, Union, MO 63084.
City of Washington
Maps are available for inspection at 405 Jefferson Street, Washington, MO 63090.
Unincorporated Areas of Franklin County
Maps are available for inspection at 8 North Church Street, Suite B, Union, MO 63084.
Tillamook County, Oregon, and Incorporated Areas
Dougherty Slough | At the confluence with Hoquarten Slough | +14 | +16 | City of Tillamook, Unincorporated Areas of Tillamook County.
| At the divergence from the Wilson River | +31 | +33
Goodspeed Road Storage Area | Approximately 2,000 feet west along Sissek Road from Goodspeed Road | None | +14 | Unincorporated Areas of Tillamook County.
Hall Slough | At the confluence with the Wilson River | None | +14 | City of Tillamook, Unincorporated Areas of Tillamook County.
| Approximately 0.64 mile upstream of U.S. Route 101 | None | +20
Hall Slough Left Bank Overflow | At the confluence with Outlet From Wilson River Loop Storage Area | None | +19 | Unincorporated Areas of Tillamook County.
| At the divergence from Hall Slough | None | +19
Hall Slough River Bank Overflow | At the confluence with Makinster Road Storage Area | None | +15 | City of Tillamook, Unincorporated Areas of Tillamook County.
| Approximately 1,450 feet upstream of the Oregon Coast Highway | None | +18
Hoquarten Slough | At the confluence with the Trask River | +13 | +15 | City of Tillamook, Unincorporated Areas of Tillamook County.
| Approximately 500 feet upstream of the Wilson River Road | None | +27
Hoquarten Slough Left Bank Overflow | At the confluence with Hoquarten Slough | None | +16 | City of Tillamook, Unincorporated Areas of Tillamook County.
| At the divergence from Hoquarten Slough | None | +16
Hoquarten Slough Left Bank Storage Area | Approximately 1,300 feet west of the intersection of 1st Street and Birch Avenue | None | +15 | City of Tillamook, Unincorporated Areas of Tillamook County.
Hoquarten Slough Right Bank Overflow | At the confluence with Hoquarten Slough | None | +16 | City of Tillamook, Unincorporated Areas of Tillamook County.
| At the divergence from Hoquarten Slough | None | +18
Kilchis River | Approximately 1,900 feet downstream of U.S. Route 101 | None | +14 | Unincorporated Areas of Tillamook County.
| Approximately 1.3 mile upstream of Myrtle Creek | None | +56
Kilchis River Left Bank Overflow | At the confluence with the Kilchis River | None | +28 | Unincorporated Areas of Tillamook County.
| Approximately 1,700 feet upstream of Curil Road | None | +29
Makinster Road Storage Area | At Makinster Road | None | +15 | City of Tillamook, Unincorporated Areas of Tillamook County.
Miami River | Just downstream of U.S. Route 101 | +12 | +14 | City of Garibaldi, Unincorporated Areas of Tillamook County.
| Approximately 1,200 feet upstream of New Miami River Road | +88 | +86
Miami River Left Bank Overflow Downstream | At the confluence with the Miami River | None | +15 | Unincorporated Areas of Tillamook County.
| Approximately 0.5 mile upstream of the confluence with Illingsworth Creek | None | +22
Miami River Left Bank Overflow Upstream | At the confluence with the Miami River | None | +24 | Unincorporated Areas of Tillamook County.
| Approximately 0.53 mile upstream of Moss Creek Road | None | +31
Old Trask River | At the confluence with the Tillamook River | None | +15 | Unincorporated Areas of Tillamook County.
| At the divergence from the Trask River | None | +16
Old Trask River Overflow Outlet from Goodspeed Storage Area | At the confluence with the Trask River | None | +14 | Unincorporated Areas of Tillamook County.
| At the divergence from Old Trask River | None | +15
| At the confluence with the Wilson River | None | +14
| Just downstream of Goodspeed Road | None | +15
Outlet from Wilson River Loop Storage | At the confluence with Dougherty Slough | None | +20 | Unincorporated Areas of Tillamook County.
| Approximately 400 feet downstream of Wilson River Loop | None | +25
Overflow from Hall Slough Left Bank Overflow | At the confluence with Goodspeed Road Storage Area | None | +14 | City of Tillamook, Unincorporated Areas of Tillamook County.
| Approximately 1,750 feet upstream of the Oregon Coast Highway | None | +18
Overflow from Wilson River Right Bank Overflow | At the confluence with the Wilson River | None | +17 | Unincorporated Areas of Tillamook County.
| Approximately 1,400 feet upstream of Boquist Road | None | +18
Overflow from Wilson River Split Flow 2 | At the confluence with the Tillamook River | None | +14 | Unincorporated Areas of Tillamook County.
| At the divergence from Wilson River Split Flow 2 | None | +14
Overflow from Wilson River Split Flow 3 | Approximately 600 feet downstream of the divergence from Wilson River Split Flow 3 | None | +14 | Unincorporated Areas of Tillamook County.
| At the divergence from Wilson River Split Flow 3 | None | +14
Stasek Slough | Approximately 80 feet downstream of U.S. Route 101 | None | +14 | Unincorporated Areas of Tillamook County.
| Approximately 1,500 feet upstream of Alderbrook Road | None | +26
Tillamook Left Bank Storage Area | Just south of the intersection of Netars Highway and Abbey Lane | None | +16 | Unincorporated Areas of Tillamook County.
Tillamook River | At the confluence with Tillamook Bay | +12 | +14 | Unincorporated Areas of Tillamook County.
| Just downstream of Bewley Creek Road | None | +27
Tillamook River Left Bank Overflow | At the confluence with the Tillamook River | None | +14 | Unincorporated Areas of Tillamook County.
| At the divergence from the Tillamook River | None | +14
Tillamook River Right Bank Overflow | At the confluence with the Tillamook River Road Storage Area | None | +16 | Unincorporated Areas of Tillamook County.
| At the divergence from the Tillamook River | None | +19
Tillamook River Road Storage Area | Just south of Matejeck Road | None | +16 | Unincorporated Areas of Tillamook County.
Trask River | At the confluence with the Tillamook River | +12 | +14 | City of Tillamook, Unincorporated Areas of Tillamook County.
| Approximately 600 feet upstream of Cedar Creek | None | +95
Trask River Left Bank Overflow 1 | At the confluence with Tillamook River Right Bank Overflow | None | +17 | Unincorporated Areas of Tillamook County.
| Just downstream of Blimp Boulevard | None | +29
Trask River Left Bank Overflow 2 | At the confluence with the Trask River | None | +33 | Unincorporated Areas of Tillamook County.
| Approximately 1,100 feet upstream of Long Prairie Road | None | +38
Trask River Right Bank Overflow | At the confluence with the Trask River | None | +16 | City of Tillamook, Unincorporated Areas of Tillamook County.
| Approximately 80 feet upstream of McCormick Loop Road | None | +24
Trask River Right Bank Overflow Storage Area | Approximately 600 feet south of the intersection of 12th Street and Marolf Loop Road | None | +24 | Unincorporated Areas of Tillamook County.
Trask River Right Bank Storage Area | Approximately 2,000 feet northeast along U.S. Route 101 from the intersection of Nelsen Road and U.S. Route 101 | None | +24 | Unincorporated Areas of Tillamook County.
Trask River Split Flow to Tillamook River | At the confluence with the Tillamook River | None | +14 | Unincorporated Areas of Tillamook County.
| At the divergence from the Trask River | None | +14
Wilson River | Approximately 0.57 mile upstream of the confluence with Tillamook Bay | +15 | +14 | City of Tillamook, Unincorporated Areas of Tillamook County.
| Approximately 1,800 feet upstream of Mills Bridge | +65 | +66
Wilson River Left Bank Overflow 1 | At the confluence with the Wilson River | None | +34 | Unincorporated Areas of Tillamook County.
| At the divergence from the Wilson River | None | +41
Wilson River Left Bank Overflow 2 | At the confluence with Dougherty Slough | None | +29 | Unincorporated Areas of Tillamook County.
| Approximately 1,700 feet upstream of Donaldson Road | None | +37
Wilson River Loop Storage Area | Approximately 1,400 feet south along Wilson Loop Road from Sollie Smith Road | None | +32 | Unincorporated Areas of Tillamook County.
Wilson River Right Bank Overflow | At the confluence with the Wilson River | None | +19 | Unincorporated Areas of Tillamook County.
| At the divergence from the Wilson River | None | +25
Wilson River Right Bank Storage Area | Approximately 650 feet south of the intersection of Aldercrest Road and Sollie Smith Road | None | +33 | Unincorporated Areas of Tillamook County.
Wilson River Split Flow 1 | At the convergence with the Wilson River | None | +14 | Unincorporated Areas of Tillamook County.
| At the divergence from the Wilson River | None | +14
Wilson River Split Flow 2 | At the confluence with Tillamook Bay | None | +14 | Unincorporated Areas of Tillamook County.
| At the divergence from the Wilson River | None | +15
Wilson River Split Flow 2 and 3 Storage Area | Just east of Wilson River Split Flow 2 | None | +14 | Unincorporated Areas of Tillamook County.
Wilson River Split Flow 3 | At the confluence with Wilson River Split Flow 2 | None | +14 | Unincorporated Areas of Tillamook County.
| At the divergence from the Wilson River | None | +15
Wilson River Split Flow to Tillamook River | At the confluence with the Tillamook River | None | +14 | Unincorporated Areas of Tillamook County.
| At the divergence from the Wilson River | None | +14
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Garibaldi
Maps are available for inspection at 107 6th Street, Garibaldi, OR 97118.
City of Tillamook
Maps are available for inspection at 210 Laurel Avenue, Tillamook, OR 97141.
Unincorporated Areas of Tillamook County
Maps are available for inspection at 201 Laurel Avenue, Tillamook, OR 97141.
Marlboro County, South Carolina, and Incorporated Areas
Great Pee Dee River | Approximately 2.8 miles downstream of U.S. Route 1 | None | +93 | Unincorporated Areas of Marlboro County.
| Approximately 1.1 mile upstream of the confluence with Marks Creek | None | +110
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Marlboro County
Maps are available for inspection at the Marlboro County Courthouse, 105 Main Street, Bennettsville, SC 29512.
Union County, South Carolina, and Incorporated Areas
Broad River | Approximately 10 feet downstream of State Highway 49 | None | +367 | Township of Lockhart.
| Approximately 1.1 mile upstream of State Highway 49 | None | +412
Canal | Approximately 28 feet downstream of State Highway 49 | None | +393 | Township of Lockhart.
| Just downstream of the Lockhart Dam | None | +409
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Township of Lockhart
Maps are available for inspection at the Town Hall, 118 Mill Street, Lockhart, SC 29364.

(Catalog of Federal Domestic Assistance No. 97.022, “Flood Insurance.”)

Dated: May 19, 2010.
Edward L. Connor,
Acting Federal Insurance and Mitigation Administrator, Federal Insurance and Mitigation Administration, Department of Homeland Security, Federal Emergency Management Agency.

[FR Doc. 2010-13266 Filed 6-2-10; 8:45 am]

BILLING CODE 9110-12-P